DEPARTMENT OF THE INTERIOR

Fish and Wildlife Service

[FWS-R8-ES-2021-N175; FXES11140800000-212-FF08EVEN00]

Endangered and Threatened Wildlife and Plants; Draft Habitat Conservation Plan and Draft Categorical Exclusion for the California Red-Legged Frog and the Southwestern Pond Turtle; Tajiguas Landfill and ReSource Center Project, Santa Barbara County, California

AGENCY: Fish and Wildlife Service, Interior.

ACTION: Notice of availability; request for comments; correction.

SUMMARY: On April 8, 2022, we, the U.S. Fish and Wildlife Service, published a notice announcing the availability for public comment of a draft habitat conservation plan (HCP) and draft categorical exclusion (CatEx) for activities associated with an application for an incidental take permit. Our notice inadvertently did not give the correct web address for obtaining documents for review. In addition, it published with out-of-date telecommunications relay services information. In this notice, we correct those errors.

DATES: Written comments should be received on or before May 9, 2022.

ADDRESSES:

Obtaining Documents: You may download copies of the draft HCP and draft CatEx at https://www.fws.gov/media/us-fish-and-wildlife-service-seeks-public-comment-draft-habitat-conservation-plan-and-draft, or you may request copies by phone at 805-677-3307 or by U.S. mail (below).

Submitting Written Comments: Please send us your written comments using one of the following methods:

• U.S. mail: Stephen P. Henry, Field Supervisor, Ventura Fish and Wildlife Office, U.S. Fish and Wildlife Service, 2493 Portola Road, Suite B, Ventura, CA 93003.

• Email: kirby_bartlett@fws.gov.

FOR FURTHER INFORMATION CONTACT: Kirby Bartlett, Fish and Wildlife Biologist, by email at kirby_bartlett@fws.gov or via phone at 805-677-3307. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: On April 8, 2022, we, the U.S. Fish and Wildlife Service, published a notice announcing the availability for public comment of a draft habitat conservation plan and draft categorical exclusion for activities associated with an application for an incidental take permit (87 FR 20881). Our notice inadvertently did not give the correct web address for obtaining documents in the ADDRESSES section. In addition, it published with out-of-date telecommunications relay services information in the FOR FURTHER INFORMATION CONTACT section. Please see corrected information above.

Madonna Baucum,
Regulations and Policy Chief, Policy and Regulations Branch, Division of Policy, Economics, Risk Management, and Analytics, U.S. Fish and Wildlife Service.

[FR Doc. 2022-07976 Filed 4-13-22; 8:45 am]

BILLING CODE 4333-15-P